DEPARTMENT OF ENERGY

Federal Energy Regulatory Commission

[Project No. 8657-064]

Virginia Hydrogeneration and Historical Society, L.C.; Notice of Availability of Final Environmental Assessment

June 16, 2004.

In accordance with the National Environmental Policy Act of 1969 and the Federal Energy Regulatory Commission's regulations contained in the 18 CFR Part 380 (FERC Order No. 486, 52 FR 47897), the Office of Energy Projects staff (staff) reviewed the Order Proposing Revocation of License for the Harvell Dam Project, located on the Appomattox River in Petersburg, Virginia, and prepared an environmental assessment (EA) for the proposed action at the project. In this EA, staff analyzed the potential environmental effects of the revocation of license and conclude that the revocation, or any other alternative considered, would not constitute a major Federal action significantly affecting the quality of the human environment.

A copy of the EA is available for review at the Commission in the Public Reference Room, located at 888 First Street, NE., Room 2A, Washington, DC 20426 or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

Magalie R. Salas,
Secretary.

[FR Doc. E4-1392 Filed 6-23-04; 8:45 am]

BILLING CODE 6717-01-P